U.S. OFFICE OF PERSONNEL MANAGEMENT

Submission for Review: Revision of an Existing Information Collection, USAJOBS®, OMB Control No. 3206-0219 Correction

AGENCY: U.S. Office of Personnel Management.

ACTION: Notice; correction.

SUMMARY: The purpose of this change is to correct an error in the original notice which listed the comment period as 60 days. The correct comment period for this notice is 30 days.

DATES: The notice published on January 23, 2014 at Vol. 79, No. 15 Page 3879 is corrected as of January 28, 2014.

FOR FURTHER INFORMATION CONTACT: John Still, 202-606-1275.

Correction

In the Federal Register of January 23, 2014, in FR Doc. 2014-01202, on page 3879, in the second column, correct the Dates caption to read:

DATES: Comments are encouraged and will be accepted until Feb 24, 2014.

This process is conducted in accordance with 5 CFR 1320.1.

U.S. Office of Personnel Management.
Dan Thibodeau,
USAJOBS Deputy Program Manager.

[FR Doc. 2014-01610 Filed 1-27-14; 8:45 am]

BILLING CODE 6325-47-P